ENVIRONMENTAL PROTECTION AGENCY

[EPA-HQ-OPP-2008-0650; FRL-8398-6]

Petition for Rulemaking Requesting EPA Regulate Nanoscale Silver Products as Pesticides; Extension of Comment Period

AGENCY: Environmental Protection Agency (EPA).

ACTION: Notice; extension of comment period.

SUMMARY: EPA issued a notice in the Federal Register of November 19, 2008, concerning a petition for rulemaking and collateral relief filed by the International Center for Technology Assessment (ICTA) and others. In general, the petition requests that the Agency classify nanoscale silver as a pesticide, require formal pesticide registration of all products containing nanoscale silver, analyze the potential human health and environmental risks of nanoscale silver, take regulatory actions under the Federal Insecticide, Fungicide, and Rodenticide Act (FIFRA) against existing products that contain nanoscale silver, and take other regulatory actions under FIFRA as appropriate for nanoscale silver products. This document extends the comment period for 60 days from January 20, 2009 to March 20, 2009.

DATES: Comments, identified by docket identification (ID) number EPA-HQ-OPP-2008-0650, must be received on or before March 20, 2009.

ADDRESSES: Follow the detailed instructions as provided under ADDRESSES in the Federal Register document of November 19, 2008 (73 FR 69644).

FOR FURTHER INFORMATION CONTACT: Nathanael R. Martin, Field and External Affairs Division (7506P), Office of Pesticide Programs, Environmental Protection Agency, 1200 Pennsylvania Ave., NW., Washington, DC 20460-0001; telephone number: 703-305-6475; e-mail address: martin.nathanael@epa.gov.

SUPPLEMENTARY INFORMATION: This document extends the public comment period established in a notice that was published in the Federal Register of November 19, 2008 (73 FR 69644) (FRL-8386-4). In that document, the Agency made the petition submitted by ICTA et al., available for review and asked for public comment on the same. On December 12, 2008, EPA received a request from ICTA to extend the comment period on the petition. EPA is hereby extending the comment period, which was set to end on January 20, 2009, to March 20, 2009.

To submit comments, or access the public docket, please follow the detailed instructions as provided under ADDRESSES in the November 19, 2008 Federal Register document. If you have questions, consult the person listed under FOR FURTHER INFORMATION CONTACT.

List of Subjects

Environmental protection, Nanotechnology, Pesticides and pests.

Dated: January 8, 2009.
Martha Monell,
Acting Director, Office of Pesticide Programs.

[FR Doc. E9-622 Filed 1-13-09; 8:45 am]

BILLING CODE 6560-50-S